ENVIRONMENTAL PROTECTION AGENCY

[EPA-HQ-OPP-2008-0061; FRL-8383-8]

Tribal Pesticide Program Council; Notice of Public Meeting

AGENCY: Environmental Protection Agency (EPA).

ACTION: Notice.

SUMMARY: The Tribal Pesticide Program Council (TPPC) will hold a 1½ day meeting, beginning on October 23, 2008, and ending October 24, 2008. This notice announces the location and times for the meeting and sets forth the tentative agenda topics.

DATES: The meeting will be held on October 23, 2008, from noon to 6 p.m. and October 24, 2008, from 8:30 a.m. to 5 p.m.

To request accommodation of a disability, please contact either person listed under FOR FURTHER INFORMATON CONTACT, preferably at least 10 days prior to the meeting, to give EPA as much time as possible to process your request.

ADDRESSES: The meeting will be held at the Sheraton Wild Horse Pass Resort and Spa in Chandler, AZ. Telephone: (602) 225-0100.

FOR FURTHER INFORMATION CONTACT: Nicole Zinn, Field and External Affairs Division (7506P), Office of Pesticide Programs, Environmental Protection Agency, 1200 Pennsylvania Ave., NW., Washington, DC 20460-0001; telephone number: (703) 308-7076; fax number: (703) 308-1850; e-mail address: zinn.nicole@epa.gov or Lillian Wilmore, TPPC Coordinator, P.O. Box 470329, Brookline Village, MA 02447; telephone: (617) 232-5742; fax: (617) 277-1656; e-mail address: naecology@aol.com.

SUPPLEMENTARY INFORMATION:

I. General Information

A. Does this Action Apply to Me?

You may be potentially affected by this action if you are interested in the TPPC information exchange relationship with EPA regarding important issues related to human health, environmental exposure to pesticides, and insight into EPA's decision-making process. All parties are invited and encouraged to attend the meetings and participate as appropriate. Potentially affected entities may include, but are not limited to:

Those persons who are or may be required to conduct testing of chemical substances under the Federal Food, Drug, and Cosmetic Act (FFDCA), or the Federal Insecticide, Fungicide, and Rodenticide Act (FIFRA).

B. How Can I Get Copies of this Document and Other Related Information?

1. Docket. EPA has established a docket for this action under docket identification (ID) number EPA-HQ-OPP-2008-0061. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Tentative Agenda

1. TPPC State of the Council Report.

2. Tribal presentations.

3. Integrated Pest Management discussion.

4. Tribal Caucus (TPPC only).

5. EPA Region and Regional Sub-Lead Reports.

6. Report and discussion on the Consultation Process/Restricted-Use Pesticides (RUPs) legal availability in Indian Country.

7. Office of Enforcement and Compliance Assurance (OECA) baseline and targets.

List of Subjects

Environmental protection.

Dated: September 29, 2008.
William R. Diamond,
Director, Field External Affairs Division, Office of Pesticide Programs.

[FR Doc. E8-23863 Filed 10-7-08; 8:45 am]

BILLING CODE 6560-50-S